DEPARTMENT OF COMMERCE

Foreign-Trade Zones Board

[Order No. 1292]

Approval for Extension of Authority of Board Order 875; Baxter Healthcare Corporation (Pharmaceutical Products), Guayama, PR

Pursuant to its authority under the Foreign-Trade Zones Act of June 18, 1934, as amended (19 U.S.C. 81a-81u), the Foreign-Trade Zones Board (the Board) adopts the following Order:

Whereas, Board Order 875 (62 FR 10521, 3/7/97) approved the request of the Puerto Rico Exports Development Corporation, grantee of Foreign-Trade Zone 61, for pharmaceutical manufacturing authority at the Baxter Healthcare Corporation (Baxter) facility in Guayama, Puerto Rico (Subzone 61H);

Whereas, the authority was approved at the outset for five years, subject to extension;

Whereas, the Puerto Rico Exports Development Corporation, grantee of Foreign-Trade Zone 61, has requested authority, on behalf of Baxter, to extend its manufacturing authority on a permanent basis (FTZ Doc. 11-2002, filed 2/7/2002);

Whereas, notice inviting public comment has been given in the Federal Register (67 FR 7132, 2/15/2002);

Whereas, the Board adopts the findings and recommendations of the examiner's report, and finds that the requirements of the FTZ Act and the Board's regulations are satisfied, and that approval of the request is in the public interest;

Now, Therefore, the Board hereby approves the request subject to the FTZ Act and the Board's regulations, including section 400.28.

Signed at Washington, DC, this 25th day of August, 2003.
Jeffrey May,
Acting Assistant Secretary of Commerce for Import Administration, Alternate Chairman, Foreign-Trade Zones Board.

[FR Doc. 03-23070 Filed 9-9-03; 8:45 am]

BILLING CODE 3510-DS-P